DEPARTMENT OF EDUCATION

Notice of Submission for OMB Review

AGENCY: Department of Education.

ACTION: Comment Request.

SUMMARY: The Director, Information Collection Clearance Division, Regulatory Information Management Services, Office of Management invites comments on the submission for OMB review as required by the Paperwork Reduction Act of 1995 (Pub. L. 104-13).

DATES: Interested persons are invited to submit comments on or before March 14, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: February 4, 2011.
Darrin A. King,
Director, Information Collection Clearance Division, Regulatory Information Management Services, Office of Management.

Office of Innovation and Improvement

Type of Review: New.

Title of Collection: Charter School Authorizer Annual Update.

OMB Control Number: Pending.

Agency Form Number(s): N/A.

Frequency of Responses: Annually.

Affected Public: Not-for-profit institutions; State, Local, and Tribal Government.

Total Estimated Number of Annual Responses: 900.

Total Estimated Annual Burden Hours: 2,025.

Abstract: The U.S. Department of Education has as one of its important policy goals expanding the number of high-quality public school choice options. Specifically, according to Part B section 5201 of the Elementary and Secondary Education Act, two of the established purposes of the Charter School Program office are: Evaluating the effects of charter schools, including the effects on students, student academic achievement, staff and parents; and expanding the number of high-quality charter schools available to students across the nation.

Charter school authorization is the center of efforts to expand and ensure high-quality public school choice options through public charter schools. Charter school authorizers are the public entities primarily responsible for: Initial charter authorizations, on-going monitoring and oversight, and charter renewal and closure decisions. Currently there is not a comprehensive, fully-populated tool for tracking the activities of and evaluating the quality of authorizers nationwide based on their authorizing decisions in light of schools' performance. The charter authorizer survey will be the key tool by which the National Charter School Resource Center collects the following data elements from the nation's charter school authorizers: Authorizing agency; authorizing agency type (e.g., school district, State Educational Agency, independent authorizer), basic school information, year the school opened, past renewal decision(s), reasons for nonrenewal (if applicable), year closed (if applicable), reason for closure (if applicable), and the next renewal decision year. The charter school authorizer survey will be administered once annually, in the spring. Respondents will be able to complete and return the survey in paper form or electronically, by visiting a link stated on the paper form.

Requests for copies of the information collection submission for OMB review may be accessed from the RegInfo.gov Web site at http://www.reginfo.gov/public/do/PRAMain or from the Department's Web site at http://edicsweb.ed.gov, by selecting the “Browse Pending Collections” link and by clicking on link number 4445. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-3011 Filed 2-9-11; 8:45 am]

BILLING CODE 4000-01-P